NUCLEAR REGULATORY COMMISSION

10 CFR Part 72

[NRC-2018-0221 and NRC-2019-0030]

RIN 3150-AK18 and 3150-AK28

List of Approved Spent Fuel Storage Casks: Holtec International HI-STORM 100 Multipurpose Canister Cask System, Certificate of Compliance No. 1014, Amendment Nos. 12 and 13; Corrections

AGENCY: Nuclear Regulatory Commission.

ACTION: Correcting amendments.

SUMMARY: The U.S. Nuclear Regulatory Commission (NRC) published two direct final rules in the Federal Register, on December 12, 2018, and February 26, 2019, which amended its spent fuel storage regulations by revising the Holtec International HI-STORM 100 Multipurpose Canister Cask System listing within the “List of approved spent fuel storage casks” to include Amendment Nos. 12 and 13 to Certificate of Compliance No. 1014 respectively. Amendment No. 12 became effective on February 25, 2019, and Amendment No. 13 became effective on May 13, 2019. The technical specifications for the HI-STORM Multipurpose Canister Cask 100 System, Amendment Nos. 12 and 13 contained a typographical error. The purpose of this action is to correct the error.

DATES: This rule is effective on May 30, 2019.

ADDRESSES: For Amendment No. 12, please refer to Docket ID NRC-2018-0221 and for Amendment No. 13, please refer to Docket ID NRC-2019-0030 when contacting the NRC about the availability of information for this action. You may obtain publicly-available information related to this action using any of the following methods:

• Federal Rulemaking Website: Go to http://www.regulations.gov and search for Docket IDs NRC-2018-0221 or NRC-2019-0030. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Yen-Ju Chen, Office of Nuclear Material Safety and Safeguards, U.S. Nuclear Regulatory Commission, Washington, DC 20555-0001; telephone: 301-415-1018; email: Yen-Ju.Chen@nrc.gov.

SUPPLEMENTARY INFORMATION: The NRC published two direct final rules in the Federal Register on December 12, 2018 (83 FR 63794) and February 26, 2019 (84 FR 6055), amending its regulations in part 72 of title 10 of the Code of Federal Regulations (10 CFR) by revising the “List of approved spent fuel storage casks” to add Amendment Nos. 12 and 13, respectively, to Certificate of Compliance No. 1014 for the Holtec International HI-STORM 100 Multipurpose Canister Cask System listing. Amendment No. 12 became effective on February 25, 2019, and Amendment No. 13 became effective on May 13, 2019. The technical specifications for these direct final rules contained a typographical error. The NRC approved Holtec International's proposed changes to Table 3-1 in Appendix A, “Technical Specifications for the HI-STORM 100 Multipurpose Canister Cask System,” of Certificate of Compliance No. 1014, Amendment No. 12; however, the table was not correctly revised with all the intended changes. This error was carried forward to Amendment No. 13.

On April 17, 2019 (ADAMS Accession No. ML19126A008), the NRC received a request from Holtec International to correct the typographical error in Appendix A, “Technical Specifications for the HI-STORM 100 Cask System,” (ADAMS Accession No. ML19107A002). Holtec International requested that the unit value for all moderate burnup fuel in row 2 of Table 3-1 be corrected from the incorrect unit value of “>” to the correct unit value of “≤.” Specifically, Holtec International stated, “that row always was ≤ 36.9 kW,” in the amendment request.

The NRC is correcting the typographical error by replacing the incorrect unit value with the correct unit value in Appendix A, Table 3-1. The NRC is also revising Amendment Nos. 12 and 13 to Certificate of Compliance No. 1014 of the Holtec International HI-STORM 100 Multipurpose Canister Cask System listings within 10 CFR 72.214 to note the corrections.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with a correction to a CFR section related to management, organization, procedure, and practice. Specifically, these amendments are to correct a minor editorial and non-substantive error. These amendments do not require action by any person or entity regulated by the NRC. Also, this final rule does not change the substantive responsibilities of any person or entity regulated by the NRC. Accordingly, for the reasons stated in this document, the NRC finds, pursuant to 5 U.S.C. 553(d)(3), that good cause exists to make this rule effective upon publication.

List of Subjects in 10 CFR Part 72

Administrative practice and procedures, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is making the following correcting amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1014 is revised to read as follows:

§ 72.214 List of approved spent fuel storage casks.

* * * * *

Certificate Number: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170); superseded by Amendment 8, Revision 1 Effective Date: February 16, 2016.

Amendment Number 8, Revision 1 Effective Date: February 16, 2016.

Amendment Number 9 Effective Date: March 11, 2014, superseded by Amendment Number 9, Revision 1, on March 21, 2016.

Amendment Number 9, Revision 1, Effective Date: March 21, 2016, as corrected (ADAMS Accession No. ML17236A451).

Amendment Number 10 Effective Date: May 31, 2016, as corrected (ADAMS Accession No. ML17236A452).

Amendment Number 11 Effective Date: February 25, 2019.

Amendment Number 12 Effective Date: February 25, 2019, as corrected (ADAMS Accession No. ML19109A111).

Amendment Number 13 Effective Date: May 13, 2019, as corrected (ADAMS Accession No. ML19109A122).

Safety Analysis Report (SAR) Submitted by: Holtec International.

SAR Title: Final Safety Analysis Report for the HI-STORM 100 Cask System.

Docket Number: 72-1014.

Certificate Expiration Date: May 31, 2020.

Model Number: HI-STORM 100.

* * * * *

Dated at Rockville, Maryland, this 24th day of May 2019.
For the Nuclear Regulatory Commission.
Pamela J. Shepherd-Vladimir,
Acting Chief, Regulatory Analysis and Rulemaking Support Branch, Division of Rulemaking, Office of Nuclear Material Safety and Safeguards.

[FR Doc. 2019-11249 Filed 5-29-19; 8:45 am]

BILLING CODE 7590-01-P